OFFICE OF THE UNITED STATES TRADE REPRESENTATIVE

[Docket No. USTR-2017-0019]

2017 Special 301 Out-of-Cycle Review of Colombia: Request for Public Comment

AGENCY: Office of the United States Trade Representative.

ACTION: Request for comments.

SUMMARY: In the 2017 Special 301 Report, the Office of the United States Trade Representative (USTR) announced that, in order to monitor progress on specific intellectual property rights (IPR) issues, USTR would conduct an out-of-cycle review of Colombia. At this time, USTR requests written comments concerning any act, policy, or practice that is relevant to the decision regarding whether and how USTR should identify Colombia based on Colombia's protection for intellectual property rights or market access Columbia provides to U.S. persons who rely on intellectual property protection.

DATES: October 20, 2017 at midnight EST: Deadline for submission of written comments.

October 27, 2017 at midnight EST: Deadline for submission of written comments from foreign governments.

ADDRESSES: You should submit written comments through the Federal eRulemaking Portal: http://www.regulations.gov. Follow the instructions for submitting comments in section II below. For alternatives to on-line submissions, please contact USTR at Special301@ustr.eop.gov before transmitting a comment and in advance of the relevant deadline.

FOR FURTHER INFORMATION CONTACT: Joseph Whitlock, Director for Intellectual Property and Innovation, at Joseph_P_Whitlock@ustr.eop.gov or (202) 395-4359. You can find information about the Special 301 Review at www.ustr.gov.

SUPPLEMENTARY INFORMATION:

I. Background

Pursuant to Section 182 of the Trade Act of 1974 (19 U.S.C. 2242), USTR must identify countries that deny adequate and effective protection for intellectual property rights or deny fair and equitable market access to U.S. persons who rely on intellectual property protection. USTR will identify the countries that have the most onerous or egregious acts, policies, or practices and whose acts, policies, or practices have the greatest adverse impact (actual or potential) on relevant U.S. products as Priority Foreign Countries. Acts, policies, or practices that are the basis of a country's designation as a Priority Foreign Country normally are the subject of an investigation under the Section 301 provisions of the Trade Act (19 U.S.C. 2411 et seq.) USTR may not identify a country as a Priority Foreign Country if that country is entering into good faith negotiations or making significant progress in bilateral or multilateral negotiations to provide adequate and effective protection of intellectual property rights. In addition, USTR has created a “Priority Watch List” and a “Watch List” under the Special 301 provisions. Placement of a trading partner on the Priority Watch List or Watch List indicates that particular problems exist in that country with respect to IPR protection, enforcement, or market access for persons relying on intellectual property. Countries placed on the Priority Watch List are the focus of increased bilateral attention concerning the problem areas.

An Out-of-Cycle Review (OCR) is a tool that USTR uses to encourage progress on IPR issues of concern. It provides an opportunity for heightened engagement with a trading partner to address and remedy such issues. Successful resolution of specific IPR issues of concern or lack of action on such issues can lead to a change in a trading partner's identification on a Special 301 list outside of the typical period for the annual Special 301 Report. USTR may conduct OCRs of other trading partners as circumstances warrant or as requested by the trading partner.

In the 2017 Special 301 Report, which you can find on the USTR Web site at www.ustr.gov, USTR placed Colombia on the Watch List and announced that it would conduct an OCR of Colombia in order to monitor progress on issues relating to IPR protection and enforcement. The OCR of Colombia will include a focus on Colombia's commitment to the intellectual property provisions of the United States-Colombia Trade Promotion Agreement and Colombia's implementation of its National Development Plan.

II. Public Comments

USTR invites written comments concerning any act, policy, or practice that is relevant to the decision regarding whether USTR should identify Colombia under Section 182 of the Trade Act. Submissions may report positive or negative developments with respect to Colombia. USTR requests that interested parties provide specific references to laws, regulations, policy statements, executive, presidential or other orders, administrative, court or other determinations that should factor into the review. USTR also requests that submissions include data, loss estimates, and other information regarding the economic impact on the United States, U.S. industry, and the U.S. workforce caused by the denial of adequate and effective intellectual property protection. For comments that include quantitative loss claims, you should include the methodology used to calculate the estimated losses. Comments should be as detailed as possible and should provide all necessary information for assessing the effect of the acts, policies, and practices. In particular, where applicable, comments should address Colombia's commitment to the intellectual property provisions of the United States-Colombia Trade Promotion Agreement and Colombia's implementation of its National Development Plan 2014-2018.

III. Submission Instructions

All submissions must be in English and sent electronically via www.regulations.gov. To submit comments, locate the docket (folder) by entering the docket number USTR-2017-0019 in the “Enter Keyword or IP” window at the regulations.gov homepage and click “Search.” The site will provide a search-results page listing all documents associated with this docket. Locate the reference to this notice by selecting “Notice” under “Document Type” on the left side of the search-results page, and click on the link entitled “Comment Now!” You should provide comments in an attached document, and name the file according to the following protocol, as appropriate: Commenter Name, or Organization_2017 Special 301 OCR Colombia. Please include the following information in the “Type Comment” field: “2017 Out-of-Cycle Review of Columbia.” USTR prefers submissions in Microsoft Word (.doc) or Adobe Acrobat (.pdf) format. If the submission is in another file format, please indicate the name of the software application in the “Type Comment” field. For further information on using the www.regulations.gov Web site, please select “How to Use Regulations.gov” on the bottom of any page.

Please do not attach separate cover letters to electronic submissions; rather, include any information that might appear in a cover letter in the comments themselves. Similarly, to the extent possible, please include any exhibits, annexes, or other attachments in the same file as the comment itself, rather than submitting them as separate files.

For any comment submitted electronically that contains business confidential information, the file name of the business confidential version should begin with the characters “BC”. Any page containing business confidential information must be clearly marked “BUSINESS CONFIDENTIAL” on the top of that page and the submission should clearly indicate, via brackets, highlighting, or other means, the specific information that is business confidential. A filer requesting business confidential treatment must certify that the information is business confidential and would not customarily be released to the public by the submitter. Additionally, the submitter should type “Business Confidential 2017 Special 301 OCR Colombia” in the “Comment” field.

Filers of comments containing business confidential information also must submit a public version of their comments. The file name of the public version should begin with the character “P”. The non-business confidential version will be placed in the docket at www.regulations.gov and be available for public inspection.

As noted, USTR strongly urges submitters to file comments through www.regulations.gov. You must make any alternative arrangements in advance of the relevant deadline and before transmitting a comment by contacting USTR at Special301@ustr.eop.gov.

We will post comments in the docket for public inspection, except business confidential information. You can view comments on the https://www.regulations.gov Web site by entering docket number USTR-2017-0019 in the search field on the home page.

Elizabeth Kendall,
Acting Assistant U.S. Trade Representative for Innovation and Intellectual Property, Office of the United States Trade Representative.

[FR Doc. 2017-20354 Filed 9-22-17; 8:45 am]

BILLING CODE 3290-F7-P